DEPARTMENT OF AGRICULTURE

Food and Nutrition Service

Agency Information Collection Activities: Proposed Collection; Comment Request—Determining Eligibility for Free and Reduced Price Meals and Free Milk

AGENCY: Food and Nutrition Service, USDA.

ACTION: Notice.

SUMMARY: In accordance with the Paperwork Reduction Act of 1995, this notice invites the general public and other public agencies to comment on this information collection. This collection is a revision of a currently approved collection for determining eligibility for free and reduced price meals and free milk as stated in FNS regulations. These Federal requirements affect eligibility under the National School Lunch Program, School Breakfast Program, and the Special Milk Program and are also applicable to the Child and Adult Care Food Program and the Summer Food Service Program when individual eligibility must be established. The eligibility burden of the Child and Adult Care Food Program and the Summer Food Service Program is reported in information collections under OMB Control Numbers 0584-0055 and 0584-0280, respectfully. The proposed collection reports the eligibility burden of National School Lunch Program; the School Breakfast Program; and the Special Milk Program. Previous information collection reviews unintentionally omitted the burden hours associated with the Special Milk Program's eligibility criteria, and some revisions being requested are due to the addition of the Special Milk Program. The current approval for the information collection burden associated with the eligibility requirements expires on March 31, 2020.

DATES: Written comments must be received on or before March 23, 2020.

ADDRESSES: Comments may be sent to: Tina Namian, School Programs Branch, Policy and Program Development Division, Food and Nutrition Service, U.S. Department of Agriculture, 1320 Braddock Place, Alexandria, VA 22314. Comments also may be submitted via fax to the attention of Tina Namian at 703-305-6294 or via email to SM.FN.CNDinternet@usda.gov. Comments also will be accepted through the Federal eRulemaking Portal. Go to http://www.regulations.gov, and follow the online instructions for submitting comments electronically. All responses to this notice will be summarized and included in the request for Office of Management and Budget approval. All comments will be a matter of public record.

FOR FURTHER INFORMATION CONTACT: Requests for additional information or copies of this information collection should be directed to Tina Namian at 703-305-2590.

SUPPLEMENTARY INFORMATION: Comments are invited on: (a) Whether the proposed collection of information is necessary for the proper performance of the functions of the agency, including whether the information will have practical utility; (b) the accuracy of the agency's estimate of the burden of the proposed collection of information, including the validity of the methodology and assumptions that were used; (c) ways to enhance the quality, utility, and clarity of the information to be collected; and (d) ways to minimize the burden of collection of information on those who are to respond, including use of appropriate automated, electronic, mechanical, or other technological collection techniques or other forms of information technology.

Title: Determining Eligibility for Free and Reduced Price Meals and Free Milk in Schools—7 CFR part 245.

Form Number: This collection does not contain any forms. However, FNS-742 and FNS-874, which are approved under OMB Control Number 0584-0594 Food Programs Reporting System (FPRS), are used in conjunction with this collection.

OMB Number: 0584-0026.

Expiration Date: March 31, 2020.

Type of Request: Revision of a currently approved collection.

Abstract: The Food and Nutrition Service administers the National School Lunch Program, the School Breakfast Program, and the Special Milk Program as mandated by the Richard B. Russell National School Lunch Act (NSLA), as amended (42 U.S.C. 1751, et seq.), and the Child Nutrition Act of 1966, as amended (42 U.S.C. 1771, et seq.). Per 7 CFR part 245, schools participating in these meal and milk programs must make free and reduced price meals and free milk available to eligible children. This information collection obtains eligibility information for free and reduced price meals and free milk and also incorporates verification procedures as required to confirm eligibility. The Programs are administered at the State and local levels and operations include direct certification, the submission of household size and income applications for school meal/milk benefits, record maintenance, and public notification of eligibility determinations, documentation, and other data. The information collection burden associated with this revision is summarized in the chart below. The difference in burden from the previous information collection is due to the addition of several reporting, recordkeeping, and public notification burdens associated with determining eligibility in the Special Milk Program as well as changes in the number of participating school food authorities/local educational agencies, and the number of households submitting applications. This is a revision of the currently approved information collection.

Affected Public: State Agencies, School Food Authorities/Local Educational Agency, and Individuals/Households.

Estimated Number of Respondents: 3,571,311 (54 SAs, 19,371 SFAs/LEAs, 3,551,886 households).

Estimated Number of Responses per Respondent: 3.514.

Estimated Total Annual Responses: 12,550,196.

Estimated Hours per Response: 0.053.

Estimated Total Annual Reporting Burden: 655,065.

Estimated Total Annual Recordkeeping Burden: 2,911.

Estimated Total Annual Public Disclosure Burden: 6,750.

Estimated Total Annual Burden: 664,725.

Current OMB Inventory for Part 245: 939,501.

Difference (Burden Revisions Requested with this renewal): −274,776.

Refer to the following table for estimated annual burden per each type of respondent:

Affected public | Estimated number respondents | Estimated number responses per respondent | Estimated total annual responses | Estimated hours per response | Estimated Total annual burden hours
(a) | (b) | (c) | (d) (b × c) | (e) | (f) (d × e)
Reporting
State Agencies | 54 | 166.44 | 8,988 | 0.76 | 562
School Food Authorities | 19,371 | 455.953 | 8,832,491 | 0.024 | 213,454
Individuals/Households | 3,551,886 | 1.03 | 3,653,373 | 0.12 | 441,049
Total Reporting Burden | 3,571,311 | 3.50 | 12,494,853 | 0.05 | 655,065
Recordkeeping
State Agencies | 54 | 12.09 | 653 | 0.174 | 113
School Food Authorities | 15,786 | 1.03 | 16,286 | 0.172 | 2,797
Total Recordkeeping Burden | 15,840 | 1.07 | 16,939 | 0.172 | 2,911
Public Notification
State Agencies | 54 | 2 | 108 | 0.14 | 15
School Food Authorities | 19,371 | 2 | 38,296 | 0.176 | 6,735.25
Total Public Notification Burden | 19,425 | 1.98 | 38,404 | 0.176 | 6,750
Total Reporting, Recordkeeping and Public Disclosure
Reporting | 3,571,311 | 3.50 | 12,494,853 | 0.05 | 655,065
Recordkeeping | 15,840 | 1.07 | 16,939 | 0.172 | 2,911
Public Notification | 19,425 | 1.98 | 38,404 | 0.176 | 6,750
Total Reporting, Recordkeeping, and Public Disclosure Burden | 3,571,311 | 3.514 | 12,550,196 | 0.053 | 664,725

Dated: December 30, 2019.
Pamilyn Miller,
Administrator, Food and Nutrition Service.

[FR Doc. 2020-00908 Filed 1-17-20; 8:45 am]

BILLING CODE 3410-30-P